DEPARTMENT OF DEFENSE

Office of the Secretary

[Docket ID: DOD-2011-OS-0142]

Privacy Act of 1974; System of Records

AGENCY: Office of the Secretary, Department of Defense (DoD).

ACTION: Notice to amend a system of records.

SUMMARY: The Office of the Secretary of Defense is proposing to amend a system of records notice in its existing inventory of records systems subject to the Privacy Act of 1974 (5 U.S.C. 552a), as amended.

DATES: The changes will be effective on January 9, 2012 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974, (5 U.S.C. 552a), as amended, have been published in the Federal Register and are available from the address in FOR FURTHER INFORMATION CONTACT.

The specific changes to the records systems being amended are set forth below followed by the notices, as amended, published in their entirety. The proposed amendments are not within the purview of subsection (r) of the Privacy Act of 1974, (5 U.S.C. 552a), as amended, which requires the submission of a new or altered system report.

Dated: December 5, 2011.
Aaron Siegel,
Alternate OSD Federal Register Liaison Officer, Department of Defense.

DWHS P49

System name:

Reasonable Accommodation Program Records (June 15, 2010, 75 FR 33789).

Changes:

* * * * *

System location:

Delete entry and replace with “Human Resources Directorate, Labor and Management Employee Relations Division, 4800 Mark Center Drive, Suite 03D08, Alexandria, VA 20350-3200.”

* * * * *

System manager(s) and address:

Delete entry and replace with “Assistant Director, Labor and Management Employee Relations Division, Human Resources Directorate, Washington Headquarters Services, 4800 Mark Center Drive, Suite 03D08, Alexandria, VA 20350-3200.”

Notification procedure:

Delete entry and replace with “Individuals seeking to determine whether this system of records contains information about themselves should address written inquiries to Assistant Director, Labor and Management Employee Relations Division, Human Resources Directorate, Washington Headquarters Services, 4800 Mark Center Drive, Suite 03D08, Alexandria, VA 20350-3200.

Requests must contain individuals name and address.”

* * * * *

DWHS P49

System name:

Reasonable Accommodation Program Records.

System location:

Human Resources Directorate, Labor and Management Employee Relations Division, 4800 Mark Center Drive, Suite 03D08, Alexandria, VA 20350-3200.

Categories of individuals covered by the system:

Employees of, and applicants for employment with, Washington Headquarters Services/Human Resources Directorate serviced components requesting a reasonable accommodation.

Categories of records in the system:

Employee's name, address and other contact information, disability or medical condition, reasonable accommodation requested, explanation of how a reasonable accommodation would assist the employee in the performance of his/her job, relevant medical documentation and other supporting documents, occupational series and grade, operating division/function, office location and address, office telephone numbers, deciding official's name and title, essential duties of the position, information relating to an individual's capability to satisfactorily perform the duties of the position currently held, estimated cost of accommodation, action by deciding official, and other supporting documents relating to reasonable accommodation.

Applicants name, contact information, disability or medical condition, reasonable accommodation requested, explanation of how a reasonable accommodation would assist the applicant in the application process and/or in the performance of the duties of the position applied for, relevant medical information and other supporting documents, occupational series and grade, operating division/function, office location and address, office telephone numbers, deciding official's name and title, essential duties of the position for which he/she is applying, information relating to an individual's capability to satisfactorily perform the duties of the position applied for, estimated cost of accommodation, action by deciding official, and other supporting documents relating to reasonable accommodation.

Authority for maintenance of the system:

29 U.S.C. 791, Employment of Individuals with Disabilities; 42 U.S.C. chapter 126, Equal Opportunity for Individuals with Disabilities; 29 CFR part 1630, Regulations to Implement the Equal Employment Provisions of the Americans with Disabilities Act; E.O. 13163, Increasing the Opportunities for Individuals with Disabilities to be Employed in the Federal Government; E.O. 13164, Requiring Federal Agencies to Establish Procedures to Facilitate the Provision of Reasonable Accommodation; DoD Directive 1020.1, Nondiscrimination on the Basis of Handicap in Programs and Activities Assisted or Conducted by the Department of Defense.

Purpose(s):

To document requests for reasonable accommodation(s) (regardless of type of accommodation) and the outcome of such requests for employees of Washington Headquarters Services/Human Resources Directorate serviced components with known physical and mental impairments and applicants for employment with Washington Headquarters Services/Human Resources Directorate serviced components.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD `Blanket Routine Uses' that appear at the beginning of the Office of the Secretary of Defense's compilation of systems of records notices also apply to this system.

Policies and practices for storing, retrieving, accessing, retaining, and disposing of records in the system:

Storage:

Paper file folders and electronic storage media.

Retrievability:

Individual's name.

Safeguards:

Access is limited to staff members working the reasonable accommodation program, agency legal counsel, and Department of Defense healthcare providers. Case records are maintained in locked file cabinets. Automated records are controlled by limiting physical access to terminals and by the use of computer access cards. Work areas are controlled access requiring key cards. Security guards protect buildings. Staff members complete annual Information Assurance and Privacy Act training.

Retention and disposal:

Destroy three years after employee separation from the agency or all appeals are concluded whichever is later.

System manager(s) and address:

Assistant Director, Labor and Management Employee Relations Division, Human Resources Directorate, Washington Headquarters Services, 4800 Mark Center Drive, Suite 03D08, Alexandria, VA 20350-3200.

Notification procedure:

Individuals seeking to determine whether this system of records contains information about themselves should address written inquiries to Assistant Director, Labor and Management Employee Relations Division, Human Resources Directorate, Washington Headquarters Services, 4800 Mark Center Drive, Suite 03D08, Alexandria, VA 20350-3200.

Requests must contain individuals name and address.

Record access procedures:

Individuals seeking to access records about themselves contained in this system of records should address written inquiries to the Office of the Secretary of Defense/Joint Staff Freedom of Information Act Requester Service Center, Office of Freedom of Information; 1155 Defense Pentagon, Washington DC 20301-1155.

Requests must contain the name and number of this System of Records Notice, the individuals name and address and be signed.

Contesting record procedures:

The Office of the Secretary of Defense rules for accessing records, for contesting contents and appealing initial agency determinations are published in Office of the Secretary of Defense Administrative Instruction 81; 32 CFR part 311; or may be obtained from the system manager.

Record source categories:

Individual, social workers, rehabilitation counselors, and/or health care personnel.

Exemptions claimed for the system:

None.

[FR Doc. 2011-31568 Filed 12-8-11; 8:45 am]

BILLING CODE 5001-06-P